DEPARTMENT OF COMMERCE

International Trade Administration

[A-570-891]

Hand Trucks and Certain Parts Thereof From the People's Republic of China: Rescission of Antidumping Duty Administrative Review; 2013-2014

AGENCY: Enforcement and Compliance, International Trade Administration, Department of Commerce.

DATES: Effective Date: June 24, 2015.

SUMMARY: The Department of Commerce (the Department) is rescinding the administrative review of the antidumping duty order on hand trucks and certain parts thereof (hand trucks) from the People's Republic of China (PRC).¹ The period of review (POR) is December 1, 2013, through November 30, 2014.

¹ See Notice of Antidumping Duty Order: Hand Trucks and Certain Parts Thereof From the People's Republic of China, 69 FR 70122 (December 2, 2004).

FOR FURTHER INFORMATION CONTACT: Scott Hoefke, or Robert James, AD/CVD Operations, Office VI, Enforcement and Compliance, International Trade Administration, U.S. Department of Commerce, 14th Street and Constitution Avenue NW., Washington, DC 20230; telephone: (202) 482-4947 or (202) 482-0649, respectively.

SUPPLEMENTARY INFORMATION:

Background

On February 4, 2015, based on timely requests for review ² by Positec USA, Inc., and RW Direct, Inc. (together, Positec), and NPS Public Furniture Corp, d/b/a National Public Seating (NPS), importers of subject merchandise, the Department published in the Federal Register a notice of initiation of an administrative review of the antidumping duty order on hand trucks from the PRC covering the period December 1, 2013, through November 30, 2014.³ The review covers three companies.⁴ On April 8, 2015, and April 16, 2015, respectively, Positec and NPS timely withdrew their requests for an administrative review of all three companies listed in the Initiation Notice.⁵ No other party requested a review of these companies or any other exporters of subject merchandise.

² See letter from Positec to the Secretary of Commerce entitled, “Request for Administrative Review: Hand Trucks and Certain Parts Thereof from the People's Republic of China,” dated December 31, 2014; see also letter from NPS to the Secretary of Commerce entitled, “Request for Administrative Review: Antidumping Duty Order on Hand Trucks and Certain Parts Thereof from the People's Republic of China (CASE NO: A-570-891) (POR: December 1, 2013-November 30, 2014),” dated December 31, 2014.

³ See Initiation of Antidumping and Countervailing Duty Administrative Reviews, 80 FR 6041 (February 4, 2015) (Initiation Notice).

⁴ The three companies are: Huzhou Shengli Industry Manufacturing Co., Ltd., Jam (Su Zhou) Metal Manufacturing Co, Ltd., and Positec (Macao Commercial Offshore), Ltd.

⁵ See letter from Positec to the Secretary of Commerce entitled, “Withdrawal of Administrative Request for Review Hand Trucks and Certain Parts Thereof from the People's Republic of China,” dated April 8, 2015; see also letter from NPS to the Secretary of Commerce entitled, “Withdrawal of Review Requests: Antidumping Duty Order on Hand Trucks and Certain Parts Thereof from the People's Republic of China (CASE NO: A-570-891) (POR: December 1, 2013-November 30, 2014),” dated April 16, 2015.

Rescission of Review

Pursuant to 19 CFR 351.213(d)(1), the Department will rescind an administrative review, in whole or in part, if the party that requested the review withdraws its request within 90 days of the publication of the notice of initiation of the requested review. In this case, both Positec and NPS timely withdrew their review requests by the 90-day deadline, and no other party requested an administrative review of the antidumping duty order on hand trucks from the PRC. As a result, pursuant to 19 CFR 351.213(d)(1), we are rescinding, in its entirety, the administrative review of hand trucks from the PRC covering the period December 1, 2013, through November 30, 2014.

Assessment

The Department will instruct U.S. Customs and Border Protection (CBP) to assess antidumping duties on all appropriate entries. Because the Department is rescinding this administrative review in its entirety, the entries to which this administrative review pertained shall be assessed antidumping duties at rates equal to the cash deposit of estimated antidumping duties required at the time of entry, or withdrawal from warehouse, for consumption, in accordance with 19 CFR 351.212(c)(1)(i). The Department intends to issue appropriate assessment instructions to CBP 15 days after the publication of this notice in the Federal Register.

Notifications

This notice serves as the only reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

This notice also serves as a final reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: June 17, 2015.
Christian Marsh,
Deputy Assistant Secretary for Antidumping and Countervailing Duty.

[FR Doc. 2015-15537 Filed 6-23-15; 8:45 am]

BILLING CODE 3510-DS-P